DEPARTMENT OF COMMERCE

International Trade Administration

[A-570-846]

Brake Rotors From the People's Republic of China: Final Results and Partial Rescission of Fourth New Shipper Review and Rescission of Third Antidumping Duty Administrative Review

AGENCY: Import Administration, International Trade Administration, Department of Commerce.

ACTION: Notice of final results and partial rescission of fourth new shipper review and rescission of third antidumping duty administrative review.

SUMMARY: On January 8, 2001, the Department of Commerce published the preliminary results and partial rescission of the fourth new shipper review and the preliminary rescission of the third antidumping duty administrative review of the antidumping duty order on brake rotors from the People's Republic of China. See Brake Rotors from the People's Republic of China: Preliminary Results and Partial Rescission of the Fourth New Shipper Review and Rescission of the Third Antidumping Duty Administrative Review, 66 FR 1303 (January 8, 2001) (Preliminary Results). The new shipper review initially covered two respondents and the administrative review was requested for three exporter/producer combinations (see “Background” section below for further discussion). The period of review is April 1, 1999, through March 31, 2000. We gave interested parties an opportunity to comment on our preliminary results.

Based on the additional publicly available information used in these final results and the comments received from the interested parties, we have made changes in the margin calculation for the one respondent in the new shipper review. The final weighted-average dumping margin for the reviewed firm in the new shipper review is listed below in the section entitled “Final Results of New Shipper Review.”

EFFECTIVE DATE: May 16, 2001.

FOR FURTHER INFORMATION CONTACT: Brian Smith or Brian Ledgerwood, Import Administration, International Trade Administration, U.S. Department of Commerce, Washington, DC 20230; telephone: (202) 482-1766 or (202) 482-3836.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to 19 CFR part 351 (2000).

Background

On January 9, 2001, the Department published in the Federal Register the preliminary results and partial rescission of the fourth new shipper review and rescission of the third antidumping duty administrative review of the antidumping duty order on brake rotors from the People's Republic of China (“PRC”) (66 FR 1303). The petitioner¹ submitted its case brief on March 15, 2001. The respondents² submitted their rebuttal brief on March 22, 2001.

¹ The petitioner is the Coalition for the Preservation of American Brake Drum and Rotor Aftermarket Manufacturers.

² The respondent in the new shipper review is Hongfa Machinery (Dalian) Co., Ltd. (“Hongfa”). The respondents in the administrative review are the following exporters/producer combinations (which are excluded from the order on brake rotors only with respect to brake rotors sold through those combinations): (1) China National Automobile Industry Import & Export Corporation (“CAIEC”) or Shandong Laizhou CAPCO Industry (“Laizhou CAPCO”)/(Laizhou CAPCO; (2) Sheyang Honbase Machinery Co., Ltd. (“Sheyang Honbase”) or Laizhou Luyuan Automobile Fittings Co., Ltd. (“Laizhou Luyuan”)/Shenyang Honbase or Laizhou Luyuan; and (3) China National Machinery and Equipment Import & Export (Xinjiang) Co., Ltd. (“Xinjiang”)/Zibo Botai Manufacturing Co., Ltd. (“Zibo”).

On April 9, 2001, we placed on the record additional publicly available information for pallet wood for consideration in the final results and provided the parties with an opportunity for comment. On April 16, 2001, both parties submitted comments on this additional information.

The Department has conducted these reviews in accordance with section 751 of the Act.

Scope of the Reviews

The products covered by these reviews are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States (e.g., General Motors, Ford, Chrysler, Honda, Toyota, Volvo). Brake rotors covered in these reviews are not certified by OEM producers of vehicles sold in the United States. The scope also includes composite brake rotors that are made of gray cast iron, which contain a steel plate, but otherwise meet the above criteria. Excluded from the scope of these reviews are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are classifiable under subheading 8708.39.5010 of the Harmonized Tariff Schedule of the United States (“HTSUS”). Although the HTSUS subheading is provided for convenience and customs purposes, our written description of the scope of these reviews is dispositive.

Partial Rescission of New Shipper Review

We have rescinded the new shipper review with respect to Luoyang Haoxiang Brake Disc Factory (“Luoyang”) because Luoyang did not respond to the Department's supplemental questionnaire. Section 776(a)(2) of the Tariff Act provides that “if an interested party or any other person (A) withholds information that has been requested by the administering authority or the Commission under this title, (B) fails to provide such information by the deadlines for submission of the information or in the from and manner requested, subject to subsections (c)(1) and (e) of section 782, (C) significantly impedes a proceeding under this title, or (D) provides such information but the information cannot be verified as provided in section 782(i), the administering authority and the Commission shall, subject to subsection 782(d), use the facts otherwise available in reaching the applicable determination under this title.”

Section 776(b) of the Act provides that the Department may use an inference that is adverse to the interests of a party that has failed to cooperate by not acting to the best of its ability to comply with the Department's requests for necessary information. See also Statement of Administrative Action accompanying the URAA, H.R. Rep. No. 103-316 (1994) (SAA) at 870. Failure by Luoyang to respond to the Department's antidumping questionnaire constitutes a failure to act to the best of its ability to comply with a request for information within the meaning of section 776(b) of the Act. As a consequence of Luoyang's decision to discontinue participation in this review, the Department canceled verification of Luoyang's questionnaire response, including its separate rate information. Luoyang's failure to respond to the Department's supplemental questionnaire constitutes a failure to act to the best of its ability to comply with a request for information within the meaning of Section 776(b) of the Act. Therefore, we considered Luoyang to be an uncooperative respondent and made the adverse assumption that Luoyang does not qualify for a separate rate. Thus, we have treated it as part of the NME entity. As part of the NME entity, Luoyang is not entitled to a rate as a new shipper, because the NME entity as a whole was subject to the less-than-fair-value (“LTFV”) investigation. Consequently, we have rescinded the new shipper review of Luoyang. See Preliminary Results, 66 FR at 1303.

Rescission of Administrative Review

Pursuant to 19 CFR 351.213(d)(3), we have determined that, during the period of review (“POR”), the exporters which received zero rates in the LTFV investigation did not make shipments of subject merchandise to the United States during the POR through a non-excluded exporter/producer combination. Specifically, we have determined that during the POR, (1) neither CAIEC nor Laizhou CAPCO exported brake rotors to the United States that were manufactured by producers other than Laizhou CAPCO; (2) neither Shenyang Honbase nor Laizhou Luyuan exported brake rotors to the United States that were manufactured by producers other than Shenyang Honbase or Laizhou Luyuan; and (3) Xinjiang did not export brake rotors to the United States that were manufactured by producers other than Zibo (see Memorandum dated October 25, 2000, from Brian C. Smith, Team Leader, to the File, titled, “Results of Request for Assistance from the U.S. Customs Service to Further Examine U.S. Entries Made By Exporter/Producer Combinations”) (“October 25, 2000, memorandum”). In order to make this determination, we first examined POR-subject merchandise shipment data furnished by the Customs Service by performing a Customs data query. Since the data from our initial Customs query was voluminous, we randomly selected 23 entries from the data query results for further examination by the Customs Service. Specifically, we requested the Customs Service to examine further the documentation filed at the U.S. port for each of those selected entries made by the exporters at issue to determine the manufacturer of the merchandise. Based on the results of our query (see October 25, 2000, memorandum), the petitioner in this review filed comments in its case brief alleging that 12 of the 23 entries represented situations where the entry may not have been based on an excluded exporter/producer combination. As a result of the petitioner's comments, we re-examined the record data for the 12 entries at issue and requested additional clarification from the Customs Service on three of them. Based on our re-examination and clarification of the data on the record for these entries, we found no evidence that any of the exporter/producer combinations which are the subject of this administrative review made shipments of subject merchandise during the POR through a non-excluded exporter/producer combination. (See “Issues and Decision Memorandum” (“Decision Memo”) from Richard W. Moreland, Deputy Assistant Secretary for Import Administration, to Bernard T. Carreau, fulfilling the duties of Assistant Secretary for Import Administration, dated May 8, 2001 (Comment 2), and Memorandum dated May 8, 2001, from Brian C. Smith, Team Leader, to the File, titled, “Clarification of 12 U.S. Entries Made By Exporter/Producer Combinations Included in the Department's September 28, 2000, Request for Further Information from the U.S. Customs Service on Selected Brake Rotor Entries During the Period of Review” for further discussion.) Therefore, we are rescinding this review with respect to CAIEC, Laizhou CAPCO, Shenyang Honbase, Laizhou Luyuan, and Xinjiang.

Analysis of Comments Received

All issues raised in the case briefs are addressed in the Decision Memo, which is hereby adopted by this notice. A list of the issues raised, all of which are in the Decision Memo, is attached to this notice as an Appendix. Parties can find a complete discussion of all issues raised in the briefs and the corresponding recommendations in this public memorandum which is on file in the Central Records Unit, room B-099 of the main Department building. In addition, a complete version of the Decision Memo can be accessed directly on the Web at http://ia.ita.doc.gov. The paper copy and electronic version of the Decision Memo are identical in content.

Changes Since the Preliminary Results

Based on the use of additional publicly available information and the comments received from the interested parties, we have made changes in the margin calculation for the one respondent that cooperated fully in the new shipper review. For a discussion of this change, see the “Margin Calculations” section of the Decision Memo.

Final Results of New Shipper Review

We determine that the following weighted-average margin percentage exists for the period April 1, 1999, through March 31, 2000:

Exporter | Margin (percent)
Hongfa Machinery (Dalian) Co., Ltd | 0.00

Assessment Rates

The Department shall determine, and the Customs Service shall assess, antidumping duties on all appropriate entries. In accordance with 19 CFR 351.106(c)(2), we will instruct the Customs Service to liquidate without regard to antidumping duties all entries of subject merchandise during the POR from Hongfa for which the import-specific assessment rate is zero or de minimis (i.e., less than 0.50 percent). In accordance with 19 CFR 351.212(b), we have calculated importer-specific ad valorem duty assessment rates. We will direct the Customs Service to assess the resulting percentage margin against the entered Customs values for the subject merchandise on each of that importer's entries under the relevant order during the review period. For entries from the PRC non-market economy (“NME”) entity companies (i.e., PRC exporters which are not entitled separate rates (including Luoyang), the Customs Service shall assess ad valorem duties at the PRC-wide rate. Because the PRC-wide entity was not reviewed during this POR, the PRC-wide rate remains the rate which was established in the less-than-fair-value investigation. For entries made by PRC companies for which the Department has rescinded the administrative review (i.e., the exporter/producer combinations listed in the “Background” section of this notice), the Customs Service shall continue not to assess ad valorem duties on those entries made by those exporter/producer combinations.

Cash Deposit Requirements

The following deposit rates shall be required for merchandise subject to the order entered, or withdrawn from warehouse, for consumption on or after the publication date of these final results, as provided by section 751(a)(1) and 751(a)(2)(B) of the Act: (1) The cash deposit rate for Hongfa will be the rate indicated above; (2) the cash deposit rate for PRC exporters who received a separate rate in a prior segment of the proceeding, but for whom the Department has rescinded the review or of whom the review was not requested for this POR will continue to be the rate assigned in that segment of the proceeding; (3) the cash deposit rate for the PRC NME entity (i.e., all other exporters, including Luoyang, which have not been reviewed) will continue to be 43.32 percent; and (4) the cash deposit rate for non-PRC exporters of subject merchandise from the PRC will be the rate applicable to the PRC supplier of that exporter. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections section 751(a)(1), 751(a)(2)(B), and 777(i) of the Act and 19 CFR 351.213 and 351.214.

May 8, 2001.
Timothy J. Hauser,
Acting Under Secretary for International Trade.

Appendix—Issues in Decision Memo

Comments

1. Rescission of Third Administrative Review Based on the Results of the Department's Customs Data Query

2. Alleged Violation of Exporter/Producer Combinations Excluded from the Order Based on Examination of Selected U.S. Brake Rotor Entries During the Period of Review

3. Surrogate Value Selection for Pallet Wood

[FR Doc. 01-12379 Filed 5-15-01; 8:45 am]

BILLING CODE 3510-DS-P